DEPARTMENT OF THE INTERIOR

National Park Service

National Register of Historic Places; Notification of Pending Nominations and Related Actions

Nominations for the following properties being considered for listing or related actions in the National Register were received by the National Park Service before October 9, 2010. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by November 15, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
National Register of Historic Places/National Historic Landmarks Program.

CALIFORNIA

San Bernardino County

Maloof, Sam and Alfreda, Compound, 5131 Carnelian St, Rancho Cucamonga, 10000932

CONNECTICUT

Fairfield County

Oysterman's Row, Roughly bounded by Pond St, Rowayton Ave, Cook St, and Roton Ave, Norwalk, 10000927

GEORGIA

Grady County

Ochlocknee Missionary Baptist Church and Cemetery, 521 US HWY 319 S, Beachton, 10000924

MASSACHUSETTS

Worcester County

Black Tavern Boundary Increase, 140, 142 Center Road, Dudley, 10000928

MISSISSIPPI

Rankin County

Brandon Cemetery, Corner of Old Depot Rd and Miss. State HWY 471 Ext., Brandon, 10000925

Downtown Brandon Historic District, E and W Government Sts from Timber St to College St, 100 blocks of N College St and Black St, Brandon, 10000926

SOUTH CAROLINA

Beaufort County

Union Church of Port Royal, 1004 11th St, Port Royal, 10000931

Greenville County

McDowell House, 500 N Main St, Fountain Inn, 10000921

Welborn, F.W., House, 405 N Weston St, Fountain Inn, 10000920

Lexington County

Cedar Grove Lutheran Church, 1220 Cedar Grove Rd, Leesville, 10000922

TENNESSEE

Davidson County

Stone Hall, 1014 Stones River Rd, Nashville, 10000923

WYOMING

Carbon County

JO Ranch Rural Historic Landscape, 24 mi NE of Baggs, Baggs, 10000930

Sweetwater County

Finley Site, The, 4 mi SE of Eden, Eden, 10000929

[FR Doc. 2010-27320 Filed 10-28-10; 8:45 am]

BILLING CODE 4312-51-P